DEPARTMENT OF TRANSPORTATION

Federal Aviation Administration

14 CFR Part 39

[Docket No. 2003-CE-64-AD]

RIN 2120-AA64

Airworthiness Directives; Alexander Schleicher GmbH & Co. Segelflugzeugbau Model ASH 25M Sailplanes

AGENCY: Federal Aviation Administration (FAA), DOT.

ACTION: Notice of proposed rulemaking (NPRM).

SUMMARY: The FAA proposes to adopt a new airworthiness directive (AD) for all Alexander Schleicher GmbH & Co. Segelflugzeugbau (Alexander Schleicher) Model ASH 25M sailplanes equipped with fuel injected engine IAE50R-AA. This proposed AD would require you to inspect the fuel line for correct fittings, and, if any incorrect fitting is found, replace the fuel line. This proposed AD is the result of mandatory continuing airworthiness information (MCAI) issued by the airworthiness authority for Germany. We are issuing this proposed AD to detect and correct any fuel lines with improper fittings, which could result in fuel leakage and a possible fire hazard.

DATES: We must receive any comments on this proposed AD by March 22, 2004.

ADDRESSES: Use one of the following to submit comments on this proposed AD:

• By mail: FAA, Central Region, Office of the Regional Counsel, Attention: Rules Docket No. 2003-CE-64-AD, 901 Locust, Room 506, Kansas City, Missouri 64106.

• By fax: (816) 329-3771.

• By e-mail: 9-ACE-7-Docket@faa.gov. Comments sent electronically must contain “Docket No. 2003-CE-64-AD” in the subject line. If you send comments electronically as attached electronic files, the files must be formatted in Microsoft Word 97 for Windows or ASCII.

You may get the service information identified in this proposed AD from Alexander Schleicher GmbH & Co. Segelflugzeugbau, D-36163 Poppenhausen, Federal Republic of Germany; telephone: (011-49) 6658 89-0; facsimile: (011-49) 6658 89-40.

You may view the AD docket at FAA, Central Region, Office of the Regional Counsel, Attention: Rules Docket No. 2003-CE-64-AD, 901 Locust, Room 506, Kansas City, Missouri 64106. Office hours are 8 a.m. to 4 p.m., Monday through Friday, except Federal holidays.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Comments Invited

How do I comment on this proposed AD? We invite you to submit any written relevant data, views, or arguments regarding this proposal. Send your comments to an address listed under ADDRESSES. Include “AD Docket No. 2003-CE-64-AD” in the subject line of your comments. If you want us to acknowledge receipt of your mailed comments, send us a self-addressed, stamped postcard with the docket number written on it. We will date-stamp your postcard and mail it back to you.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What events have caused this proposed AD? The Luftfahrt-Bundesamt (LBA), which is the airworthiness authority for Germany, recently notified FAA that an unsafe condition may exist on Alexander Schleicher sailplanes. The LBA reports that an incorrect fitting at one end of a fuel line was installed during production of the Model ASH 25M sailplane equipped with fuel injected engine IAE50R-AA. The incorrect fitting includes a combination of sealing cones. After maintenance, the incorrect combination of sealing cones inside the fittings might cause a fuel leak.

What are the consequences if the condition is not corrected? Any fuel line with improper fittings could result in fuel leakage and a possible fire hazard.

Is there service information that applies to this subject? Alexander Schleicher has issued ASH 25 Mi Technical Note No. 22, dated February 21, 2003.

What are the provisions of this service information? The service bulletin includes procedures for:

—Inspecting the fuel line for correct fittings; and

—If any incorrect fitting is found, replacing the fuel line.

What action did the LBA take? The LBA classified this service bulletin as mandatory and issued German AD Number 2003-129, dated March 21, 2003, to ensure the continued airworthiness of these sailplanes in Germany.

Did the LBA inform the United States under the bilateral airworthiness agreement? These Alexander Schleicher Model ASH 25M sailplanes are manufactured in Germany and are type-certificated for operation in the United States under the provisions of § 21.29 of the Federal Aviation Regulations (14 CFR 21.29) and the applicable bilateral airworthiness agreement.

Under this bilateral airworthiness agreement, the LBA has kept us informed of the situation described above.

FAA's Determination and Requirements of This Proposed AD

What has FAA decided? We have examined the LBA's findings, reviewed all available information, and determined that AD action is necessary for products of this type design that are certificated for operation in the United States.

Since the unsafe condition described previously is likely to exist or develop on other Alexander Schleicher Model ASH 25M sailplanes of the same type design that are registered in the United States, we are proposing AD action to detect and correct any fuel lines with improper fittings, which could result in fuel leakage and a possible fire hazard.

What would this proposed AD require? This proposed AD would require you to incorporate the actions in the previously-referenced service bulletin.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many sailplanes would this proposed AD impact? We estimate that this proposed AD affects 2 sailplanes in the U.S. registry.

What would be the cost impact of this proposed AD on owners/operators of the affected sailplanes? We estimate the following costs to accomplish this proposed inspection:

Labor cost | Parts cost | Total cost per sailplane | Total cost on U.S. operators
1 workhour at $65 per hour = $65 | Not Applicable. | $65 | $130

We estimate the following costs to accomplish any necessary replacement that would be required based on the results of this proposed inspection. We have no way of determining the number of sailplanes that may need this replacement:

Labor cost | Parts cost | Total cost per sailplane
1 workhour at $65 per hour = $65 | $160 | $65 + $160 = $225

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2003-CE-64-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Alexander Schleicher GMBH & Co. Segelflugzeugbau: Docket No. 2003-CE-64-AD.

When Is the Last Date I Can Submit Comments on This Proposed AD?

(a) We must receive comments on this proposed airworthiness directive (AD) by March 22, 2004.

What Other ADs Are Affected by This Action?

(b) None.

What Sailplanes Are Affected by This AD?

(c) This AD affects all Model ASH 25M sailplanes, all serial numbers, that are:

(1) Certificated in any category; and

(2) Equipped with fuel injected engine IAE50R-AA.

What Is the Unsafe Condition Presented in This AD?

(d) This AD is the result of mandatory continuing airworthiness information (MCAI) issued by the airworthiness authority for Germany. The actions specified in this AD are intended to detect and correct fuel lines with improper fittings, which could result in fuel leakage and a possible fire hazard.

What Must I Do To Address This Problem?

(e) To address this problem, you must do the following:

Actions | Compliance | Procedures
(1) Inspect the fuel line between the injection valve and pressure regulator for the correct color of connecting fittings (The connecting fitting at the injection valve must be blue and the connecting fitting at the pressure regulator must be black.) | Within the next 50 hours time-in-service (TIS) after the effective date of this AD, unless already done | Follow Alexander Schleicher GmbH & Co. Segelflugzeugbau ASH 25 Mi Technical Note No. 22, dated February 21, 2003.
(2) If you find any fuel line with blue connecting fittings at both ends, then replace the fuel line with a fuel line with a blue connecting fitting at the injection valve and a black connecting fitting at the pressure regulator | Before further flight after the inspection required by paragraph (e)(1) of this AD | Follow Alexander Schleicher GmbH & Co. Segelflugzeugbau ASH 25 Mi Technical Note No. 22, dated February 21, 2003.
(3) Do not install any fuel line that uses blue connecting fittings at both ends | As of the effective date of this AD | Not Applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

May I Get Copies of the Documents Referenced in This AD?

(g) You may get copies of the documents referenced in this AD from Alexander Schleicher GmbH & Co. Segelflugzeugbau, D-36163 Poppenhausen, Federal Republic of Germany; telephone: (011-49) 6658 89-0; facsimile: (011-49) 6658 89-40. You may view these documents at FAA, Central Region, Office of the Regional Counsel, 901 Locust, Room 506, Kansas City, Missouri 64106.

Is There Other Information That Relates to This Subject?

(h) German AD Number 2003-129, dated March 21, 2003, also addresses the subject of this AD.

Issued in Kansas City, Missouri, on February 4, 2004.
Dorenda D. Baker,
Manager, Small Airplane Directorate, Aircraft Certification Service.

[FR Doc. 04-2954 Filed 2-10-04; 8:45 am]

BILLING CODE 4910-13-P